FEDERAL ACCOUNTING STANDARDS ADVISORY BOARD

Notice of Issuance of Technical Bulletin 2006-1

Board Action: Pursuant to the Federal Advisory Committee Act (Pub. L. No. 92-463), as amended, and the FASAB Rules Of Procedure, as amended in April, 2004, notice is hereby given that the Federal Accounting Standards Advisory Board has issued Technical Bulletin 2006-1, Recognition and Measurement of Asbestos-Related Cleanup Costs.

The proposed Technical Bulletin is intended to clarify the required reporting of liabilities and related expenses arising from friable and non-friable asbestos-related cleanup costs.

The Technical Bulletin is available on the FASAB Web site at http://www.fasab.gov/exposure.html, or by calling 202-512-7350. Respondents are encouraged to comment on any part of the technical bulletin. Written comments are requested by June 30, 2006, and should be sent to:

Wendy M. Comes, Executive Director, Federal Accounting Standards Advisory Board, 441 G Street, NW., Suite 6814, Mail Stop 6K17V, Washington, DC 20548.

FOR FURTHER INFORMATION CONTACT: Wendy Comes, Executive Director, 441 G Street, NW., Mail Stop 6K17V, Washington, DC 20548, or call (202) 512-7350.

Authority: Federal Advisory Committee Act. Public Law No. 92-463.

Dated: June 20, 2006.
Charles Jackson,
Federal Register Liaison Officer.

[FR Doc. 06-5630 Filed 6-22-06; 8:45 am]

BILLING CODE 1610-01-M